DEPARTMENT OF LABOR

Occupational Safety and Health Administration

29 CFR Part 1979

[Docket No. C-07]

RIN 1218-AB99

Procedures for the Handling of Discrimination Complaints Under Section 519 of the Wendell H. Ford Aviation Investment and Reform Act for the 21st Century

AGENCY: Occupational Safety and Health Administration, Labor.

ACTION: Interim final rule; reopening of comment period.

SUMMARY: On April 1, 2002, OSHA published an interim final rule titled, “Procedures for the Handling of Discrimination Complaints under section 519 of the Wendell H. Ford Aviation Investment and Reform Act for the 21st Century.” The period for submitting written comments is being extended to allow information and data to be collected by those industries and employee groups affected by the rule.

DATES: Comments must be received by June 30, 2002.

ADDRESSES: Submit written comments to: OSHA Docket Office, Docket C-07, Occupational Safety and Health Administration, U.S. Department of Labor, Room N-2625, 200 Constitution Avenue, NW, Washington, DC 20210. Commenters who wish to receive notification of receipt of comments are requested to include a self-addressed, stamped post card or to submit them by certified mail, return receipt requested. As a convenience, comments may be transmitted by facsimile (“FAX”) machine to (202) 693-1681. This is not a toll-free number. If commenters transmit comments by FAX and also submit a hard copy by mail, please indicate on the hard copy that it is a duplicate copy of the FAX transmission.

FOR FURTHER INFORMATION CONTACT: John Spear, Occupational Safety and Health Administration, U.S. Department of Labor, Room N-3618, 200 Constitution Avenue, NW, Washington, DC 20210; telephone (202) 693-2187. This is not a toll-free number. The alternative formats available are large print, electronic file on computer disk (Word Perfect, ASCII, Mates with Duxbury Braille System) and audiotape.

SUPPLEMENTARY INFORMATION: On April 1, 2002, at 67 FR 15454, OSHA published an Interim Final Rule titled, “Procedures for the Handling of Discrimination Complaints under Section 519 of the Wendell H. Ford Aviation Investment and Reform Act for the 21st Century.” In that document OSHA requested comments on or before May 31, 2002. However, at the request of the Association of Flight Attendants, AFL-CIO, OSHA is extending the comment period an additional 30 days until June 30, 2002, to allow additional time for interested parties to gather information and submit informed comments to assist the Agency.

Authority: This document was prepared under the direction and control of the Assistant Secretary, Occupational Safety and Health Administration, U.S. Department of Labor.

Signed at Washington, DC, this 7th day of June, 2002.
John L. Henshaw,
Assistant Secretary for Occupational Safety and Health.

[FR Doc. 02-14950 Filed 6-12-02; 8:45 am]

BILLING CODE 4510-26-P